DEPARTMENT OF THE INTERIOR

National Park Service

National Preservation Technology and Training Board: Meeting Cancellation

AGENCY: National Park Service, Interior.

ACTION: Notice.

Notice is hereby given in accordance with the Federal Advisory Committee Act, 5 U.S.C. Appendix (1988), that the National Preservation Technology and Training Board that was scheduled to meet May 22, 2000, in Santa Fe, New Mexico is cancelled.

The Board was to meet Monday, May 22 from 8:30 a.m. to 5:30 p.m. in the DeVargas room of the Hotel St. Francis, 201 Don Gasper Avenue, Santa Fe, New Mexico. Matters to be discussed were to include, officer and committee reports; consideration of present and future NCPTT programs; consideration of NCPTT mission and long-range plan, assess the accomplishment of the board's first six years; and the election of officers for two-year terms. The board meeting will be rescheduled at a later time.

Persons wishing more information concerning this meeting, or who wish to submit written statements, may do so by contacting Mr. E. Blaine Cliver, Chief, HABS/HAER, National Park Service, 1849 C Street NW, Washington, DC 20240, telephone: (202) 343-9573.

Dated: May 16, 2000.
Eric DeLong,
Acting Chief, HABS/HAER, Designated Federal Official, National Park Service.

[FR Doc. 00-12699 Filed 5-19-00; 8:45 am]

BILLING CODE 4310-70-P